DEPARTMENT OF ENERGY

Federal Energy Regulatory Commission

Combined Notice of Filings #1

October 29, 2009.

Take notice that the Commission received the following electric corporate filings:

Docket Numbers: EC06-129-003.

Applicants: Capital Research and Management Company.

Description: Capital Research and Management Company's Request for Reauthorization and Extension of Blanket Authorization under Section 203 of the Federal Power Act.

Filed Date: 10/28/2009.

Accession Number: 20091028-5122.

Comment Date: 5 p.m. Eastern Time on Wednesday, November 18, 2009.

Docket Numbers: EC10-9-000.

Applicants: Aircraft Services Corporation, Blue Canyon Windpower V LLC.

Description: Application for Authorization for Disposition of Jurisdictional Facilities and Acquisition of Securities by a Holding Company and Request for Expedited Action of Blue Canyon Windpower V LLC, et al.

Filed Date: 10/28/2009.

Accession Number: 20091028-5125.

Comment Date: 5 p.m. Eastern Time on Wednesday, November 18, 2009.

Take notice that the Commission received the following electric rate filings:

Docket Numbers: ER97-2846-016; ER99-2311-013.

Applicants: Florida Power Corporation; Carolina Power & Light Company.

Description: Carolina Power & Light Co et al. submits notice of change in status in compliance with requirements set forth in Section 35.42 of the regulations.

Filed Date: 10/28/2009.

Accession Number: 20091029-0058.

Comment Date: 5 p.m. Eastern Time on Wednesday, November 18, 2009.

Docket Numbers: ER98-1643-016.

Applicants: Portland General Electric Company.

Description: Portland General Electric Company Notice of Non-Material Change in status.

Filed Date: 10/27/2009.

Accession Number: 20091027-5087.

Comment Date: 5 p.m. Eastern Time on Tuesday, November 17, 2009.

Docket Numbers: ER01-462-002.

Applicants: DPL Energy Resources, Inc.

Description: DPL Energy Resources, Inc submits an application to modify market based rate tariffs, to request waivers of requirements for transactions among affiliates and for approvals in conformance with Order No 697.

Filed Date: 10/27/2009.

Accession Number: 20091028-0074.

Comment Date: 5 p.m. Eastern Time on Tuesday, November 17, 2009.

Docket Numbers: ER08-83-003.

Applicants: Gilberton Power Company.

Description: Gilberton Power Company submits First Revised Sheet No 1 et al. to its FERC Electric Tariff, Original Volume No 1 & request for blanket authority under Section 204 of the FPA and Part 34.

Filed Date: 10/28/2009.

Accession Number: 20091029-0059.

Comment Date: 5 p.m. Eastern Time on Wednesday, November 18, 2009.

Docket Numbers: ER08-1457-004.

Applicants: PPL Electric Utilities Corporation.

Description: PJM Interconnection's refund report in compliance with Order approving settlement.

Filed Date: 10/28/2009.

Accession Number: 20091028-5123.

Comment Date: 5 p.m. Eastern Time on Wednesday, November 18, 2009.

Docket Numbers: ER08-1600-002.

Applicants: Basin Electric Power Cooperative, Inc.

Description: Compliance Refund Report of Basin Electric Power Cooperative.

Filed Date: 10/28/2009.

Accession Number: 20091028-5129.

Comment Date: 5 p.m. Eastern Time on Wednesday, November 18, 2009.

Docket Numbers: ER09-1049-003.

Applicants: Midwest Independent Transmission System Operator, Inc.

Description: Informational Filing of Midwest Independent Transmission System Operator, Inc.

Filed Date: 10/26/2009.

Accession Number: 20091026-5095.

Comment Date: 5 p.m. Eastern Time on Monday, November 09, 2009.

Docket Numbers: ER09-1051-001.

Applicants: ISO New England Inc. & New England Power Pool.

Description: ISO New England Inc et al. submits a filing in compliance with Order No. 719-A.

Filed Date: 10/27/2009.

Accession Number: 20091028-0069.

Comment Date: 5 p.m. Eastern Time on Tuesday, November 10, 2009.

Docket Numbers: ER09-1650-000; OA09-32-000; TS09-12-000.

Applicants: BP Wind Energy North America Inc., Fowler Ridge Wind Farm LLC, Fowler Ridge II Wind Farm LLC, Fowler Ridge III Wind Farm LLC, Dominion Fowler Ridge Wind II, LLC.

Description: Response of BP Wind Energy North America Inc., Fowler Ridge Wind Farm LLC, Fowler Ridge II Wind Farm LLC, Fowler Ridge III Wind Farm LLC, and Dominion Fowler Ridge Wind II LLC, to Request for Additional Information.

Filed Date: 10/28/2009.

Accession Number: 20091028-5130.

Comment Date: 5 p.m. Eastern Time on Monday, November 09, 2009.

Docket Numbers: ER09-1748-001.

Applicants: Inupiat Energy Marketing, LLC.

Description: Inupiat Energy Marketing, LLC submits a revised application for Order Accepting Initial Rate Schedule, Blanket Authorizations and Certain Waivers etc.

Filed Date: 10/27/2009.

Accession Number: 20091028-0072.

Comment Date: 5 p.m. Eastern Time on Tuesday, November 17, 2009.

Docket Numbers: ER10-90-000.

Applicants: Lonestar Energy Partners, LLC.

Description: Lonestar Energy Partners, LLC submits petition for acceptance of initial rate schedule, FERC Rate Schedule 1, waivers and blanket authority.

Filed Date: 10/27/2009.

Accession Number: 20091029-0147.

Comment Date: 5 p.m. Eastern Time on Tuesday, November 17, 2009.

Docket Numbers: ER10-98-000.

Applicants: Southern Company Services, Inc.

Description: Alabama Power Company et al. submit a transmittal letter and the amendment to the Open Access transmission Tariff (FERC Electric Tariff, Fourth Revised Volume 5).

Filed Date: 10/23/2009.

Accession Number: 20091026-0278.

Comment Date: 5 p.m. Eastern Time on Friday, November 13, 2009.

Docket Numbers: ER10-105-000.

Applicants: Southern California Edison Company.

Description: Southern California Edison Company submits revision to its Transmission Owner Tariff, FERC Electric Tariff Second Revised Volume 6 etc.

Filed Date: 10/23/2009.

Accession Number: 20091028-0010.

Comment Date: 5 p.m. Eastern Time on Friday, November 13, 2009.

Docket Numbers: ER10-119-000.

Applicants: New York Independent System Operator, Inc.

Description: ISO New England Inc et al. submits a filing in compliance with Order No. 719-A.

Filed Date: 10/27/2009.

Accession Number: 20091028-0070.

Comment Date: 5 p.m. Eastern Time on Tuesday, November 17, 2009.

Docket Numbers: ER10-120-000.

Applicants: Pacific Gas and Electric Company.

Description: Pacific Gas and Electric Company submits Twenty-Seventh Quarterly filing of facilities agreements.

Filed Date: 10/27/2009.

Accession Number: 20091028-0075.

Comment Date: 5 p.m. Eastern Time on Tuesday, November 17, 2009.

Docket Numbers: ER10-122-000.

Applicants: PJM Interconnection, LLC.

Description: PJM Interconnection, LLC submits a revised interconnection service agreement.

Filed Date: 10/28/2009.

Accession Number: 20091028-0066.

Comment Date: 5 p.m. Eastern Time on Wednesday, November 18, 2009.

Docket Numbers: ER10-123-000.

Applicants: PJM Interconnection, LLC.

Description: PJM Interconnection, LLC submits a Network Integration Transmission Service Agreement.

Filed Date: 10/28/2009.

Accession Number: 20091028-0067.

Comment Date: 5 p.m. Eastern Time on Wednesday, November 18, 2009.

Docket Numbers: ER10-124-000.

Applicants: PJM Interconnection, LLC.

Description: PJM Interconnection, LLC submits a Network Integration Transmission Service Agreement.

Filed Date: 10/28/2009.

Accession Number: 20091028-0068.

Comment Date: 5 p.m. Eastern Time on Wednesday, November 18, 2009.

Docket Numbers: ER10-125-000.

Applicants: Xcel Energy Services Inc.

Description: Xcel Energy on behalf of NSP Companies submits a notice of cancellation of the Mobile Transformer Agreement.

Filed Date: 10/28/2009.

Accession Number: 20091028-0073.

Comment Date: 5 p.m. Eastern Time on Wednesday, November 18, 2009.

Docket Numbers: ER10-129-000.

Applicants: Southwest Power Pool, Inc.

Description: Southwest Power Pool, Inc submits executed Service Agreement for Network Integration Transmission Service between SPP as Transmission Provider and Kansas Electric Power cooperative, Inc as Network Customer, etc.

Filed Date: 10/28/2009.

Accession Number: 20091029-0055.

Comment Date: 5 p.m. Eastern Time on Wednesday, November 18, 2009.

Docket Numbers: ER10-130-000.

Applicants: Duke Energy Carolinas, LLC.

Description: Duke Energy Carolinas, LLC submits 8/6/09 confirmation between Duke Energy Carolinas and North Carolina Electric Membership Corporation.

Filed Date: 10/28/2009.

Accession Number: 20091029-0056.

Comment Date: 5 p.m. Eastern Time on Wednesday, November 18, 2009.

Docket Numbers: ER10-131-000.

Applicants: Mid-Continent Area Power Pool.

Description: Mid-Continent Area Power Pool submits revisions to their Restated Agreement, FERC Electric Tariff, First Revised Volume No 2, effective 12/31/09.

Filed Date: 10/28/2009.

Accession Number: 20091029-0057.

Comment Date: 5 p.m. Eastern Time on Wednesday, November 18, 2009.

Take notice that the Commission received the following electric securities filings:

Docket Numbers: ES09-54-001.

Applicants: Midwest Independent Transmission System Operation, Inc.

Description: Supplement to Section 204 Application of Midwest Independent Transmission System Operator, Inc.

Filed Date: 10/28/2009.

Accession Number: 20091028-5087.

Comment Date: 5 p.m. Eastern Time on Monday, November 09, 2009.

Take notice that the Commission received the following open access transmission tariff filings:

Docket Numbers: OA08-81-002.

Applicants: NorthWestern Corporation.

Description: NorthWestern Corporation submits an errata to its 9/18/09 filing in compliance with the FERC 9/3/09 Letter Order etc.

Filed Date: 10/22/2009.

Accession Number: 20091026-0288.

Comment Date: 5 p.m. Eastern Time on Thursday, November 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-26614 Filed 11-4-09; 8:45 am]

BILLING CODE 6717-01-P